OFFICE OF THE UNITED STATES TRADE REPRESENTATIVE

Publication of 2024 Tariff Rate Quota Quantity Limitations Under the U.S.-Australia Free Trade Agreement

AGENCY: Office of the United States Trade Representative (USTR).

ACTION: Notice.

SUMMARY: In accordance with the U.S.-Australia Free Trade Agreement entered into by the United States and the Commonwealth of Australia, USTR is providing notice of tariff-rate quota quantity limitations of certain tariff subheadings for calendar year (CY) 2024.

DATES: The changes made by this notice are applicable as of January 1, 2024.

FOR FURTHER INFORMATION CONTACT: Sarah E. Fasano, Office of Agricultural Affairs, at (202) 395-6127 or Sarah.E.Fasano@ustr.eop.gov.

SUPPLEMENTARY INFORMATION: Pursuant to section 201 of the United States-Australia Free Trade Agreement Implementation Act (Pub. L. 108-286; 118 Stat. 919) (19 U.S.C. 3805 note), Presidential Proclamation No. 7857 of December 20, 2004, and subchapter XXII of chapter 98 of the Harmonized Tariff Schedule of the United States (HTSUS), the Annex to this notice provides the quantitative limitations in 2024 of originating goods of Australia entering the United States under certain subheadings.

Annex

Effective with respect to originating goods of Australia, entered under the terms of general note 28 to the HTSUS and under subchapter XXII of chapter 98, on or after January 1, 2024, and through the close of December 31, 2024:

1. For purposes of U.S. note 8 to subchapter XXII of chapter 98 of the HTSUS, the aggregate quantity of originating goods of Australia entered under subheading 9822.04.01 shall not exceed 70,843 metric tons for CY2024.

2. For purposes of U.S. note 9 to subchapter XXII of chapter 98 of the HTSUS, the aggregate quantity of originating goods of Australia entered under subheading 9822.04.05 shall not exceed 22,692,000 liters for CY2024.

3. For purposes of U.S. note 10 to subchapter XXII of chapter 98 of the HTSUS, the aggregate quantity of originating goods of Australia entered under subheading 9822.04.10 shall not exceed 2,630 metric tons for CY2024.

4. For purposes of U.S. note 11 to subchapter XXII of chapter 98 of the HTSUS, the aggregate quantity of originating goods of Australia entered under subheading 9822.04.15 shall not exceed 175 metric tons for CY2024.

5. For purposes of U.S. note 12 to subchapter XXII of chapter 98 of the HTSUS, the aggregate quantity of originating goods of Australia entered under subheading 9822.04.20 shall not exceed 8,427 metric tons for CY2024.

6. For purposes of U.S. note 13 to subchapter XXII of chapter 98 of the HTSUS, the aggregate quantity of originating goods of Australia entered under subheading 9822.04.25 shall not exceed 4,538 metric tons for CY2024.

7. For purposes of U.S. note 14 to subchapter XXII of chapter 98 of the HTSUS, the aggregate quantity of originating goods of Australia entered under subheading 9822.04.30 shall not exceed 9,077 metric tons for CY2024.

8. For purposes of U.S. note 15 to subchapter XXII of chapter 98 of the HTSUS, the aggregate quantity of originating goods of Australia entered under subheading 9822.04.35 shall not exceed 8,844 metric tons for CY2024.

9. For purposes of U.S. note 16 to subchapter XXII of chapter 98 of the HTSUS, the aggregate quantity of originating goods of Australia entered under subheading 9822.04.40 shall not exceed 5,054 metric tons for CY2024.

10. For purposes of U.S. note 17 to subchapter XXII of chapter 98 of the HTSUS, the aggregate quantity of originating goods of Australia entered under subheading 9822.04.45 shall not exceed 1,315 metric tons for CY2024.

11. For purposes of U.S. note 18 to subchapter XXII of chapter 98 of the HTSUS, the aggregate quantity of originating goods of Australia entered under subheading 9822.04.50 shall not exceed 877 metric tons for CY2024.

12. For purposes of U.S. note 19 to subchapter XXII of chapter 98 of the HTSUS, the aggregate quantity of originating goods of Australia entered under subheading 9822.04.65 shall not exceed 1,263 metric tons for CY2024.

Douglas McKalip,
Chief Agricultural Negotiator, Office of the United States Trade Representative.

[FR Doc. 2024-00227 Filed 1-8-24; 8:45 am]

BILLING CODE 3290-F4-P